ENVIRONMENTAL PROTECTION AGENCY

[FRL-7592-2]

Lakewood Treating, Inc., Superfund Site, Newberry, SC; Notice of Proposed Settlement and Removal Action

AGENCY: Environmental Protection Agency.

SUMMARY: The United States Environmental Protection Agency is proposing to enter into a proposed settlement and a removal action with the settling parties pursuant to Section 104, 106(a), 107, and 122 of the Comprehensive Environmental Response, Compensation, and Liability Act (CERCLA), as amended, 42 U.S.C. 9604, 9606(a), 9607 and 9622 concerning the Lakewood Treating, Inc., Superfund Site in Newberry, Newberry County, South Carolina. EPA will consider public comments on the proposed settlement until December 29, 2003. EPA may withdraw from or modify the proposed settlement should such comments disclose facts or considerations which indicate the proposed settlement is inappropriate, improper or inadequate. Copies of the proposed settlement are available from: Ms. Paula V. Batchelor, U.S. EPA, Region 4, Waste Management Division, 61 Forsyth Street, SW., Atlanta, Georgia 30303, (404) 562-8887.

Written comments may be submitted to Ms. Batchelor within 30 calendar days of the date of the publication.

Dated: November 14, 2003.
Rosalind H. Brown,
Chief, Superfund Enforcement & Information Management Branch, Waste Management Division.

[FR Doc. 03-29693 Filed 11-26-03; 8:45 am]

BILLING CODE 6560-50-P